DEPARTMENT OF HOMELAND SECURITY

Office of the Secretary

[Docket No. DHS-2023-0014]

Homeland Security Advisory Council

AGENCY: Office of Partnership and Engagement, Department of Homeland Security (DHS).

ACTION: Committee management; notice of committee charter renewal.

SUMMARY: The Secretary of Homeland Security has determined that the renewal of the Homeland Security Advisory Council is necessary and in the public interest. This determination follows consultation with the Committee Management Secretariat, General Services Administration.

DATES: The committee's charter is effective March 11, 2023 and expires March 11, 2025.

ADDRESSES: If you desire to submit comments on this action, they must be submitted by April 10, 2023. Comments must be identified by DHS Docket Number (DHS-2023-0014) and may be submitted by one of the following methods:

• Federal eRulemaking Portal: http://www.regulations.gov. Follow the instructions for submitting comments.

• Email: HSAC@hq.dhs.gov. Include the Docket Number (DHS-2023-0014) in the subject line of the message.

• Phone: (202) 891-2876.

• Mail: Homeland Security Advisory Council, Department of Homeland Security, Mail Stop 0385, 2707 Martin Luther King Jr. Ave. SE, Washington, DC 20528-0385.

Instructions: All submissions must include the words “Department of Homeland Security” and DHS-2023-0014, the docket number for this action. Comments received will be posted without alteration at http://www.regulations.gov, including any personal information provided. You may wish to review the Privacy & Security Notice and User Notice on the homepage of www.regulations.gov.

Docket: For access to the docket to read background documents or comments received, go to http://www.regulations.gov.

FOR FURTHER INFORMATION CONTACT: Rebecca Sternhell, Executive Director, Homeland Security Advisory Council, Department of Homeland Security, Mail Stop 0385, 2707 Martin Luther King Jr. Ave. SE, Washington, DC 20598-0655, by telephone (202) 891-2876 or by email to hsac@hq.dhs.gov.

SUPPLEMENTARY INFORMATION: Purpose and Objective: Under the authority of 6 U.S.C. 451, this charter renewed the Homeland Security Advisory Council as a discretionary committee, which shall operate in accordance with the provisions of the Federal Advisory Committee Act (FACA), 5 U.S.C. ch. 10. The Homeland Security Advisory Council (HSAC) was established in April 2003, under the authority of Title 6 United States Code, section 451, and chartered under the provisions of the Federal Advisory Committee Act (FACA), 5 U.S.C. ch. 10. This discretionary committee provides nonpartisan and organizationally independent, strategic advice to the Secretary of Homeland Security on matters related to homeland security.

Rebecca K. Sternhell,
Executive Director, Homeland Security Advisory Council.

[FR Doc. 2023-05392 Filed 3-15-23; 8:45 am]

BILLING CODE 9112-FN-P